DEPARTMENT OF THE INTERIOR

National Park Service

[N6633; NPS-WASO-NAGPRA-NPS0041366; PPWOCRADN0-PCU00RP14.R50000]

Notice of Intended Repatriation: Santa Rosa Junior College Multicultural Museum, Santa Rosa, CA

AGENCY: National Park Service, Interior.

ACTION: Notice.

SUMMARY: In accordance with the Native American Graves Protection and Repatriation Act (NAGPRA), the Santa Rosa Junior College Multicultural Museum (SRJCMM) intends to repatriate certain cultural items that meet the definition of unassociated funerary objects, sacred objects, and/or objects of cultural patrimony and that have a cultural affiliation with the Indian Tribes or Native Hawaiian organizations in this notice.

DATES: Repatriation of the cultural items in this notice may occur on or after January 15, 2026.

ADDRESSES: Send additional, written requests for repatriation of the cultural items in this notice to Rachel Minor, SRJCMM, 1501 Mendocino Avenue, Santa Rosa CA 95401, email rminor@santarosa.edu.

SUPPLEMENTARY INFORMATION: This notice is published as part of the National Park Service's administrative responsibilities under NAGPRA. The determinations in this notice are the sole responsibility of the SRJCMM, and additional information on the determinations in this notice, including the results of consultation, can be found in the summary or related records. The National Park Service is not responsible for the determinations in this notice.

Abstract of Information Available

A total of 306 cultural items have been requested for repatriation. The 277 unassociated funerary objects/sacred objects are: six groundstone pestles, six groundstone mortars, one charmstone, 222 stone points and/or blades, 35 fragments of worked faunal bone, one shell, four clamshell beads, two bead fragments. The 29 sacred objects are 29 rusted iron nails of various sizes collected from the Carrillo Adobe site.

Objects 100.005 (pestle), 100.007 (Mortar), 100.008 (pestle), and 100.009 (mortar) were collected by Harry Sonnikin, who worked in construction in Sonoma County. These items were acquired through the process of doing his job, and are reasonably connected to the tribe based upon the geographical locations in which the donor did that work. Object 103.106 is an obsidian biface point, which was located by donor J.R. Black in the Petaluma Hills. Objects 118.122 and 118.123 (mortars), 118.125, 118.126, and 118.128 (pestles) were collected by donor Patrick Gallagher in Kenwood, California. Object 35.101, a charmstone, is assumed to have been collected by the Museum's founder, Jesse Peter. It has the notation “California shell mound—east of Ignacio, CA”. Objects 86.252, consisting of 35 fragments of faunal bone, one small shell, and a bead fragment, were also assumed to have been collected by Jesse Peter, with the following note: “Keiys Place, Bodega Bay”. Object 92.070 is a mortar “found 1915-1916 in Santa Rosa Creek near the modern fire department on Sonoma Avenue” in Santa Rosa, CA by Louis Saare Jr. Objects 94.060 and 2025.3.1 consist of seven obsidian projectile points found by Mr. Gregory Willms (or Williams) in Santa Rosa, CA. and donated to the Santa Rosa Junior College Museum on February 22nd,1994. Objects 95.155 (one mortar and one pestle) were found by donor Janice Boldt in 1948 in Montecito Heights, Santa Rosa, CA. Object 96.062, an obsidian bifacial blade, was found by Jacob Borsclair (age 13) in 1993 in Annadel Park on Louis Trail, 20 yards off the trail- sitting on the ground among obsidian chips—½ mile from parking lot, up the hill, under the trees. Objects 97.318 consists of three obsidian points, each of a different type of obsidian. Bennett Valley Ranch in Santa Rosa, CA donated these. Objects 98.002, 98.003, and 98.004 consist of 144 spear points and blades; mixed types of obsidian, found in the Oakmont region of Santa Rosa during the construction of the Golf Course by Mr. William Bochman prior to 1969 and donated to the museum by his son, Bruce Bochman. Presence of any potentially hazardous substances is unknown. Objects 2025.4.1 Consists of four gray stone scraper tools, ranging in size from 2 to 4.5 inches in length Collected by Sharon Koch in the vicinity of St. Eugene's Church and The Carrillo Adobe in Santa Rosa (Montgomery Avenue) in the 1960s. These were donated to the Santa Rosa Junior College Museum on June 23rd, 2025. Objects 2025.4.2 Consists of four obsidian tools; three scrapers and one projectile point that range in size from 1 inch (point) to 2.5 inches. Cataloged together as they were donated in one bag together. Collected from Santa Rosa creek by Sharon Koch and donated to the Santa Rosa Junior College Museum on June 23rd, 2025. Objects 2025.4.3 Consists of three tan colored projectile points. Donator described as scrapers in label accompanying, but are clearly semi-chipped points with shoulders and notches. Collected by Sharon Koch in the vicinity of St. Eugene's Church and The Carrillo Adobe in Santa Rosa (Montgomery Avenue) in the 1960s. These were donated to the Santa Rosa Junior College Museum on June 23rd, 2025. Object 2025.4.4 Consists of one obsidian point, in teardrop shape with serrated blade. Semitransparent in thinnest places. Collected by Sharon Koch in the vicinity of St. Eugene's Church and The Carrillo Adobe in Santa Rosa (Montgomery Avenue) in the 1960s. These were donated to the Santa Rosa Junior College Museum on June 23rd, 2025. Object 2025.4.5 Consists of two obsidian items. One is a very small projectile point, the second is a fragment of a blade or larger point. Collected by Sharon Koch in the vicinity of St. Eugene's Church and The Carrillo Adobe in Santa Rosa (Montgomery Avenue) in the 1960s. These were donated to the Santa Rosa Junior College Museum on June 23rd, 2025. Object 2025.4.6 Consists of a series of nineteen scrapers, points, and blades. Stone material varies, but majority is obsidian (with one projectile point being mahogany obsidian specifically). Donated in one bag together, documented together. Collected by Sharon Koch in the vicinity of St. Eugene's Church and The Carrillo Adobe in Santa Rosa (Montgomery Avenue) in the 1960s. These were donated to the Santa Rosa Junior College Museum on June 23rd, 2025. Object 2025.4.7 Consists of three tan stone scrapers. 2 to 3.25 inches in length. Collected by Sharon Koch in the vicinity of St. Eugene's Church and The Carrillo Adobe in Santa Rosa (Montgomery Avenue) in the 1960s. These were donated to the Santa Rosa Junior College Museum on June 23rd, 2025. Object 2025.4.8 Consists of two obsidian tools. Collected by Sharon Koch in the vicinity of St. Eugene's Church and The Carrillo Adobe in Santa Rosa (Montgomery Avenue) in the 1960s. These were donated to the Santa Rosa Junior College Museum on June 23rd, 2025. Object 2025.4.9 Consists of fourteen fragmentary items, all obsidian but one. Appear to be mostly pieces of projectile points, both finished and in progress. Collected by Sharon Koch in the vicinity of St. Eugene's Church and The Carrillo Adobe in Santa Rosa (Montgomery Avenue) in the 1960s. These were donated to the Santa Rosa Junior College Museum on June 23rd, 2025. Object 2025.4.10 Consists of fourteen scrapers and points of various size and color. Several are obsidian. Several are tan. Collected by Sharon Koch in the vicinity of St. Eugene's Church and The Carrillo Adobe in Santa Rosa (Montgomery Avenue) in the 1960s. These were donated to the Santa Rosa Junior College Museum on June 23rd, 2025. Object 2025.4.11 Consists of four complete clamshell beads and several bead fragments. Collected by Sharon Koch in the vicinity of St. Eugene's Church and The Carrillo Adobe in Santa Rosa (Montgomery Avenue) in the 1960s. These were donated to the Santa Rosa Junior College Museum on June 23rd, 2025. Object 2025.4.12 Consists of 29 rusted iron nails of various sizes collected by Sharon Koch in the vicinity of St. Eugene's Church and the Carrillo Adobe in Santa Rosa (Montgomery Avenue) in the 1960s. These were donated to the Santa Rosa Junior College Museum on June 23rd, 2025.

Cultural Affiliation

Based on the information available and the results of consultation, cultural affiliation is clearly identified by the information available about the unassociated funerary objects and sacred objects described in this notice.

Determinations

The SRJCMM has determined that:

• The 29 sacred objects described in this notice are specific ceremonial objects needed by a traditional Native American religious leader for present-day adherents to practice traditional Native American religion, according to the Native American traditional knowledge of a lineal descendant, Indian Tribe, or Native Hawaiian organization.

• The 277 unassociated funerary objects/sacred objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Federated Indians of Graton Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 15, 2026. If competing requests for repatriation are received, the Santa Rosa Junior College Multicultural Museum must determine the most appropriate requestor prior to repatriation. Requests for joint repatriation of the cultural items are considered a single request and not competing requests. The Santa Rosa Junior College Multicultural Museum is responsible for sending a copy of this notice to the Indian Tribes and Native Hawaiian organizations identified in this notice and to any other consulting parties.

Authority: Native American Graves Protection and Repatriation Act, 25 U.S.C. 3004 and the implementing regulations, 43 CFR 10.9.

Dated: November 19, 2025.
Melanie O'Brien,
Manager, National NAGPRA Program.

[FR Doc. 2025-22912 Filed 12-15-25; 8:45 am]

BILLING CODE 4312-52-P